DEPARTMENT OF THE INTERIOR

Bureau of Indian Affairs

Notice of Intent To Prepare a Programmatic Environmental Impact Statement (EIS) for the Navajo Nation Integrated Weed Management Plan Within Coconino, Navajo, and Apache Counties, Arizona; McKinley, San Juan, McGill, and Cibola Counties, NM; and San Juan County, UT

AGENCY: Bureau of Indian Affairs, Interior.

ACTION: Notice.

SUMMARY: This notice advises the public that the Bureau of Indian Affairs (BIA) as lead Agency, with the Navajo Nation, National Park Service, and Arizona Department of Transportation serving as cooperating agencies, intends to prepare an EIS for a proposed weed management plan for the Navajo Indian Reservation. This notice also announces the beginning of the public scoping process to solicit public comments and identify issues.

DATES: Comments on the scope of the EIS may be submitted in writing until February 28, 2013. The date(s) and location(s) of any scoping meetings will be announced at least 15 days in advance through local media, including the Navajo Times, Arizona Daily Sun, Farmington Daily Times, Gallup Independent, and the Navajo Hopi Observer.

ADDRESSES: You may mail, email or hand carry comments to Renee Benally, Natural Resource Specialist, Bureau of Indian Affairs, Western Navajo Agency, Branch of Natural Resources, PO Box 127, Tuba City, Arizona 86045; telephone: (928)283-2210; email: renee.benally@bia.gov.

FOR FURTHER INFORMATION CONTACT: Renee Benally, Natural Resource Specialist, Bureau of Indian Affairs, Western Navajo Agency, Branch of Natural Resources, PO Box 127, Tuba City, Arizona 86045; telephone: (928)283-2210; email: renee.benally@bia.gov.

SUPPLEMENTARY INFORMATION: The BIA is proposing to develop a ten-year integrated weed management plan for the Navajo Indian Reservation. The Navajo Indian Reservation lands are infested with noxious and/or invasive weeds that have social and economic impacts on the Navajo Nation. The BIA, in partnership with cooperating agencies, intends to develop an integrated weed management plan to prevent, control, reduce, and eliminate the detrimental impacts of weed infestations throughout the reservation. The proposed action would authorize new treatments of noxious and invasive weed infestations throughout the Navajo Indian Reservation. The number of infestations and amount of acreage treated will be determined by the annual funding allocations for project implementation. The various methods of noxious/invasive weed control that will be considered during development of alternatives for the integrated weed management plan include, but will not be limited to, mechanical, cultural, biological and herbicidal treatments, and other methods that may be identified during the public scoping process.

The purpose of the public scoping process is to determine relevant issues that will influence the scope of the environmental analysis, including alternatives, and guide the process for developing the EIS. At present, the BIA has identified the following preliminary issues: Surface and ground water quality; environmental justice considerations; cultural and historic resources; biological resources; public health; and socioeconomics.

The BIA will use and coordinate the NEPA commenting process to satisfy the public involvement process for Section 106 of the National Historic Preservation Act (16 U.S.C. 470f) as provided for in 36 CFR 800.2(d)(3). Native American tribal consultations will be conducted in accordance with the Department of the Interior's consultation policy, and tribal concerns will be given due consideration, including impacts on Indian trust assets. Federal, State, and local agencies, along with other stakeholders that may be interested in or affected by the BIA's decision on this project are invited to participate in the scoping process and, if eligible, may request or be requested by the BIA to participate as a cooperating agency.

Directions for Submitting Public Comments: Please include your name, return address and the caption “Navajo Nation Integrated Weed Management Plan EIS Comments” at the head of your letter or in the subject line of your email message.

Availability of Comments: Comments, including names and addresses of respondents, will be available for public review at the BIA address shown in the ADDRESSES section of this notice during regular business hours, Monday through Friday, except holidays. Before including your address, phone number, email address, or other personal identifying information in your comment, you should be aware that your entire comment—including your personal identifying information—may be made publicly available at any time. While you can ask us in your comment to withhold your personal identifying information from public review, we cannot guarantee that we will be able to do so.

Authority: This notice is published in accordance with sections 1503.1 and 1506.6 of the Council on Environmental Quality Regulations (40 CFR parts 1500 through 1508) implementing the procedural requirements of the National Environmental Policy Act of 1969, as amended (42 U.S.C. 4321 et seq.), and the Department of the Interior National Environmental Policy Act Implementation Policy (43 CFR part 46), and is in the exercise of authority delegated to the Assistant Secretary-Indian Affairs by 209 DM 8.

Dated: December 19, 2012.
Kevin K. Washburn,
Assistant Secretary—Indian Affairs.

[FR Doc. 2013-00527 Filed 1-11-13; 8:45 am]

BILLING CODE 4310-W7-P